FEDERAL COMMUNICATIONS COMMISSION

47 CFR Parts 1 and 25

[IB Docket No. 02-34; FCC 04-92]

Space Station Licensing Rules and Policies

AGENCY: Federal Communications Commission.

ACTION: Final rule.

SUMMARY: In this document, the Commission seeks to extend mandatory electronic filing to all satellite and earth station applications. The Commission also plans to implement two measures that allow space station operators to make certain changes to their systems without prior regulatory approval. First, we allow direct broadcast satellite (DBS) licensees and Digital Audio Radio Service (DARS) satellite licensees to use a streamlined procedure when relocating satellites for fleet management purposes. Second, we allow Non-Geostationary Satellite Orbit (NGSO) system operators to activate in-orbit spares without prior authorization from the Commission, provided that the activation does not cause the operator to exceed the total number of space stations that the licensee was authorized to operate under its blanket license for that system. These rule revisions represent another step in our continuing effort to eliminate outdated regulatory requirements and expedite provision of satellite services to the public.

DATES: The revisions to §§ 1.10000, 1.10006, 1.10007, 25.113 and 25.118(e) will become effective September 7, 2004. The revisions to §§ 25.110, 25.114, 25.115, 25.116, 25.117, 25.118(a), 25.130, 25.131, and 25.154 contain information requirements that have not been approved by OMB. The Federal Communications Commission will publish a document in the Federal Register announcing the effective date of these sections.

ADDRESSES: Comments on the information collection requirement should be addressed to the Office of the Secretary, Federal Communications Commission, 445 Twelfth Street, SW., Washington, DC 20554. In addition to filing comments with the Secretary, a copy should be submitted to Judy Boley Herman, Federal Communications Commission, Room 1-C804, 445 Twelfth Street, SW., Washington, DC 20554, or via Internet to Judy.Herman@fcc.gov, and to Timothy Fain, OMB Desk Officer, 10236 NEOB, 725-17th Street, NW., Washington, DC 20503 or via the Internet to fain_t@al.eop.gov.

FOR FURTHER INFORMATION CONTACT: Steven Spaeth, Satellite Division, International Bureau, at (202) 418-1539.

SUPPLEMENTARY INFORMATION: This is a summary of the Fourth Report and Order in IB Docket No. 02-34, adopted on April 9, 2004, and released on April 16, 2004 (FCC 04-92, released April 16, 2004), is available for public inspection and copying during regular business hours at the FCC Reference Information Center, Portals II, 445 12th Street, SW., Room CY-A257, Washington, DC 20554. The document may also be purchased from the Commission's duplicating contractor, Best Copy and Printing, Inc., Portals II, 445 12th Street, SW., Room CY-B402, Washington, DC 20554, telephone (202) 863-2893, facsimile (202) 863-2898, or via e-mail http://www.BCPIWEB.com.

In 2000 and 2002, the Commission initiated proceedings to reform and streamline its earth station and space station licensing procedures, respectively. In July 2003, the Commission adopted a Second Further Notice of Proposed Rulemaking (2nd FNPRM), 68 FR 53702, September 12, 2003, in both these proceedings. The Commission proposed extending mandatory electronic filing requirements to all space station and earth station applicants. The Commission also proposed extending the streamlined procedure for fleet management modifications to DBS and DARS licensees. Only one party filed comments in response to the 2nd FNPRM, Sirius Satellite Radio, Inc. (Sirius). No replies were filed.

The Commission observed that it has mandatory electronic filing for several but not all satellite and earth station filings. We require all space station applicants other than DBS and DARS applicants to file electronically. We also require electronic filing for routine earth station license applications, and for earth station assignments and transfer of control applications. Parties filing petitions to deny routine earth station applications, or other pleadings in response to routine earth station applications, must also file electronically.

Paperwork Reduction Act: This Fourth Report and Order contains new and modified information collections. The Federal Communications Commission, as part of its continuing effort to reduce paperwork burden, has previously invited the general public and the Office of Management and Budget (OMB) to comment on the information collection(s) contained in this Fourth Report and Order, as required by the Paperwork Reduction Act of 1995, Public Law 104-13. See 69 FR 26391, May 12, 2004.

A. Mandatory Electronic Filing

1. In the 2nd FNPRM, the Commission proposed extending electronic filing requirements to all pleadings and other filings governed by part 25 of the Commission's rules. The Commission noted that electronic filing should enable it to act on applications more quickly. The Commission explained further that requiring certain types of applications to be filed electronically and permitting others to be filed manually adds complexity to the application filing requirements. Thus, adopting mandatory electronic filing for all satellite and earth station filings would simplify the filing requirements. The Commission also proposed requiring DARS applicants to file applications on Schedule S. The Commission adopted Schedule S in its current form in the Third Space Station Reform Order, 68 FR 63994, November 12, 2003, to standardize many of the information requirements associated with satellite license applications. The Commission intended Schedule S to streamline review of satellite applications, and to facilitate electronic filing. Schedule S is required of all space station applicants other than DARS applicants.

2. Discussion. Sirius supports extending mandatory electronic filing to all satellite and earth station applications, to simplify part 25 and to facilitate interested parties' access to information. We agree. Accordingly, we adopt mandatory electronic filing for all applications and pleadings that are governed by part 25. We delegate authority to the Chief, International Bureau, to make the electronic filing system revisions necessary to implement these new electronic filing requirements. We also direct the International Bureau to issue a public notice at least 30 days before the new electronic filing requirements will take effect.

3. Sirius also argues that the edit checks in Schedule S should allow applicants to respond “Not Applicable” or “N/A” where appropriate. We agree, and direct the International Bureau to add “Not Applicable” or “N/A” responses to Schedule S where appropriate.

B. Streamlined Fleet Management Modification Procedure for DBS and DARS Licensees

4. Background. In the Second Space Station Reform Order, 68 FR 62247, November 3, 2003, the Commission adopted a streamlined procedure for GSO licensees seeking to relocate two or more satellites among orbit locations at which they are licensed. The Commission referred to such relocations as “fleet management” license modifications. Under this procedure, a space station operator may modify its license without prior authorization, but upon 30 days' prior notice to the Commission and any potentially affected licensed spectrum user, provided that the operator meets the following requirements:

(1) The space station licensee will relocate a Geostationary Satellite Orbit (GSO) space station to another orbit location that is assigned to that licensee;

(2) The relocated space station licensee will operate with the same technical parameters as the space station initially assigned to that location, or within the original satellite's authorized and/or coordinated parameters;

(3) The space station licensee certifies that it will comply with all the conditions of its original license and all applicable rules after the relocation;

(4) The space station licensee certifies that it will comply with all applicable coordination agreements at the newly occupied orbital location;

(5) The space station licensee certifies that it has completed any necessary coordination of its space station at the new location with other potentially affected space station operators;

(6) The space station licensee certifies that it will limit operations of the space station to Tracking, Telemetry, and Control (TT&C) functions during the relocation and satellite drift transition period; and

(7) The space station licensee certifies that the relocation of the space station does not result in a lapse of service for any current customer.

The Commission also noted that, because DBS and DARS were not included in the Space Station Reform NPRM, 68 FR 51546, August 27, 2003, the streamlined procedure for satellite fleet management modifications adopted in the Second Space Station Reform Order was limited to modifications of satellite licenses other than DBS and DARS.

5. In the 2nd FNPRM, 68 FR 53702, September 12, 2003, the Commission proposed to extend the satellite fleet management modification procedure to DBS and DARS licenses. It stated that it was not aware of any public policy that would be served by precluding DBS and DARS licensees from using this procedure, which allows licensees to respond faster to changing circumstances regarding fleet deployment.

6. The Commission also requested comment on whether DBS and DARS licensees should be required to make any certifications that are not applicable to FSS providers making fleet management modifications. For example, one possible certification might be that a proposed DBS modification shall not cause greater interference than that which would occur from the current U.S. assignments in the International Telecommunication Union (ITU) Region 2 BSS Plan and its associated Feeder Link Plan. Another possibility might be to require DBS operators to certify that they will continue to meet the geographic service requirements that apply to DBS. The Commission also invited parties to recommend other possible certification requirements.

7. Discussion. No DBS operators commented on this proposal, but one DARS operator, Sirius, did comment. We conclude that extending the fleet management modification procedure to DBS licensees would enable us to act on DBS fleet management modification requests faster than we do now. Accordingly, we adopt a fleet management modification procedure for DBS licensees.

8. We also adopt the proposals in the 2nd FNPRM, to require DBS licensees using the fleet management modification procedure to certify that they will not cause greater interference than that which would occur from the current U.S. assignments in the International Telecommunication Union (ITU) Region 2 BSS Plan and its associated Feeder Link Plan. We will also require certifications that the DBS licensee will meet the geographic service requirements in § 25.148(c) of the Commission's rules. These certifications are necessary to ensure that DBS fleet management modifications are consistent with the public interest, convenience, and necessity.

9. Sirius states that it does not oppose the fleet management proposal for GSO DARS systems. Accordingly, we revise the streamlined modification procedure for fleet management so that it also applies to DARS space stations. Moreover, in the 2nd FNPRM, the Commission did not propose to require DARS licensees proposing fleet management modifications to make any additional certifications, as it did for DBS licensees as discussed above, and no commenter proposed any such certifications. Therefore, GSO DARS licensees proposing fleet management modifications need to make only the seven certifications adopted in the Second Space Station Reform Order, 68 FR 62247, November 3, 2003. DBS and GSO DARS licensees are permitted to make fleet management modification as with other GSO licensees, by requesting a modification by filing Form 312 and making the needed certifications.

C. Streamlined Modification Procedure for NGSO Licensees

10. Background. Sirius proposes a streamlined procedure for NGSO system operators seeking to launch a ground spare as an in-orbit spare, and later operate it. Under the Sirius proposal, the applicant would file an application to launch the satellite. In the event that the license is granted, the applicant would notify the Commission of the launch date. Later, the applicant would also notify the Commission if and when it begins to operate the satellite. Sirius argues that in-orbit spares enable licensees to replace decommissioned satellites promptly. Sirius also claims that this is comparable to the fleet management procedure for GSO satellites. No reply comments were filed on Sirius's proposal.

11. Discussion. We agree with Sirius that its proposed procedure is comparable to the fleet management procedure for GSO satellites. Generally, activating an in-orbit spare in an NGSO satellite system involves moving the satellite from one previously authorized orbit to another. Similarly, fleet management modifications involve moving a GSO satellite from one previously authorized orbit location to another. Therefore, we adopt the Sirius proposal with one minor revision. We will permit all NGSO system operators to launch in-orbit spares, and to activate them without prior authorization from the Commission, provided that the activation does not cause the operator to exceed the total number of space stations that the licensee was authorized to operate under its blanket license for that system, and the spare satellite has technical characteristics identical to the other satellites in the constellation. If the activation of a spare satellite would cause the licensee to exceed its total number of authorized satellites, if the licensee plans to operate the satellite in an orbit that was not previously authorized, or if the spare has different technical characteristics, including but not limited to frequency bands, the licensee will need to seek a modification of its license. This is consistent with provisions that the Commission adopted for NGSO FSS licensees in the Ku-band and Ka-band.

12. In summary, NGSO licensees using this procedure will be required to notify the Commission that they have launched a spare, or activated a ground spare, no later than 30 days after the launch or activation. Licensees will be required to make these notifications on Form 312. Since the satellite launches and activations contemplated here will not cause the licensee to exceed the number of satellites it is authorized to operate, we conclude that we will not require any fee for these notifications.

D. Conclusion

13. In this Order, we extend mandatory electronic filing to all space station and earth station applications, related pleadings, and other filings governed by part 25. We also allow DBS and DARS licensees to take advantage of the fleet management modification procedure adopted for GSO FSS licensees in the Second Space Station Reform Order. Furthermore, we allow NGSO system operators to activate in-orbit spares without prior authorization from the Commission, provided that the activation does not cause the operator to exceed the total number of space stations that the licensee was authorized to operate under its blanket license for that system.

14. Finally, we make revisions to part 1, subpart Y, to conform that subpart to the revisions to part 25 we adopt in this Fourth Report and Order.

E. Procedural Matters

15. Final Regulatory Flexibility Certification. The Regulatory Flexibility Act of 1980, as amended (RFA), requires that a regulatory flexibility analysis be prepared for rulemaking proceedings, unless the agency certifies that “the rule will not have a significant economic impact on a substantial number of small entities.” The RFA generally defines “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

16. In this Fourth Report and Order, the Commission extends electronic filing requirements to satellite and earth station operators that are not currently subject to those requirements. The Commission believes that filing applications electronically is no more burdensome than submitting paper applications, because a majority of applicants currently file their applications electronically on a voluntary basis. We also make an existing streamlined license modification procedure available to DBS and DARS licensees, and adopt a new streamlined license modification procedure for NGSO licensees. The effect of these rule revisions is to reduce the administrative burdens of some space station licensees. We expect that these changes will be minimal and positive. Therefore, we certify that the requirements of this Fourth Report and Order will not have a significant economic impact on a substantial number of small entities. The Commission will send a copy of the Fourth Report and Order, including a copy of this final certification, in a report to Congress pursuant to the Congressional Review Act, see 5 U.S.C. 801(a)(1)(A). In addition, the Fourth Report and Order and this certification will be sent to the Chief Counsel for Advocacy of the Small Business Administration, and will be published in the Federal Register. See 5 U.S.C. 605(b).

17. Privacy Impact Assessment. The Commission has performed a Privacy Impact Assessment as required by the Privacy Act, as amended by the E-Government Act of 2002. The Commission has determined that this information collection does not affect individuals or household; thus, there are no impacts under the Privacy Act.

F. Ordering Clauses

18. Accordingly, it is ordered, pursuant to sections 4(i), 7(a), 11, 303(c), 303(f), 303(g), and 303(r) of the Communications Act of 1934, as amended, 47 U.S.C. 154(i), 157(a), 161, 303(c), 303(f), 303(g), 303(r), that this Fourth Report and Order in IB Docket No. 02-34, and Fourth Report and Order in IB Docket No. 00-248, are hereby adopted.

19. It is further ordered that parts 1 and 25 of the Commission's rules are amended as set forth in the rule changes.

20. It is further ordered that the revisions to §§ 1.10000, 1.10006, 1.10007, 25.113 and 25.118(e) will become effective September 7, 2004. The revisions to §§ 25.110, 25.114, 25.115, 25.116, 25.117, 25.118(a), 25.130, 25.131, and 25.154 contain information requirements that have not been approved by OMB. The Federal Communications Commission will publish a document in the Federal Register announcing the effective date of these sections.

21. It is further ordered that the Consumer and Governmental Affairs Bureau, Reference Information Center, shall send a copy of this Order, including the Final Regulatory Flexibility Certification, to the Chief Counsel for Advocacy of the Small Business Administration.

List of Subjects in 47 CFR Parts 1 and 25

Administrative practice and procedure, Satellites.

Federal Communications Commission.
William F. Caton,
Deputy Secretary.

Rule Changes

For the reasons discussed in the preamble, the Federal Communications Commission amends 47 CFR, parts 1 and 25, to read as follows:

PART 1—PRACTICE AND PROCEDURE

1. The authority citation for part 1 continues to read as follows:

Authority: 47 U.S.C. 151, 154(i), 154(j), 155, 225, 303(r), 309 and 325(e).

2. Revise § 1.10000 to read as follows:

§ 1.10000 What is the purpose of these rules?

(a) These rules are issued under the Communications Act of 1934, as amended, 47 U.S.C. 151 et seq., and the Submarine Cable Landing License Act, 47 U.S.C. 34-39.

(b) This subpart describes procedures for electronic filing of International and Satellite Services applications using the International Bureau Filing System.

(c) More licensing and application descriptions and directions, including but not limited to specifying which International and Satellite service applications must be filed electronically, are in parts 1, 25, 63, and 64 of this chapter.

3. Revise § 1.10006 to read as follows:

§ 1.10006 Is electronic filing mandatory?

(a) Mandatory electronic filing requirements for applications for international and satellite services are set forth in parts 1, 25, 63, and 64 of this chapter.

(b) If you are not required to file an international or satellite application, you may file that application electronically on a voluntary basis. However, we encourage you to use IBFS to increase time-savings and efficiency.

4. Amend § 1.10007 by revising paragraph (b) to read as follows:

§ 1.10007 What applications can I file electronically?

* * * * *

(b) For a complete list of applications you can file electronically, see the IBFS Web site at www.fcc.gov/ibfs.

* * * * *

PART 25—SATELLITE COMMUNICATIONS

5. The authority citation for part 25 continues to read as follows:

Authority: 47 U.S.C. 701-744. Interprets or applies sections 4, 301, 302, 303, 307, 309 and 332 of the Communications Act, as amended, 47 U.S.C. 154, 301, 302, 303, 307, 309 and 332, unless otherwise noted.

6. Revise § 25.110 to read as follows:

§ 25.110 Filing of applications, fees, and number of copies.

(a) You can obtain application forms for this part by going online at www.fcc.gov/ibfs, where you may complete the form prior to submission via IBFS, the IB electronic filing system.

(b) Submitting your application. All space station applications and all earth station applications must be filed electronically on Form 312. In this part, any party permitted or required to file information on Form 312 must file that information electronically through the International Bureau Filing System (IBFS) in accordance with the applicable provisions of part 1, subpart Y of this chapter.

(c) All correspondence and amendments concerning any application must identify:

(1) The satellite radio service;

(2) The applicant's name;

(3) Station location;

(4) The call sign or other identification of the station; and

(5) The file number of the application involved.

(d) Copies. Applications must be filed electronically though IBFS. The Commission will not accept any paper version of any application.

(e) Signing. Upon filing an application electronically, the applicant must print out the filed application, obtain the proper signatures, and keep the original in its files.

(f) The applicant must pay the appropriate fee for its application and submit it in accordance with part 1, subpart G of this chapter.

7. Section 25.113 is amended by revising paragraph (g) introductory text and by adding paragraph (h) to read as follows:

§ 25.113 Construction permits, station licenses and launch authority.

* * * * *

(g) Except as set forth in paragraph (h) of this section, a launch authorization and station license (i.e., operating authority) must be applied for and granted before a space station may be launched and operated in orbit. Request for launch authorization may be included in an application for space station license. However, an application for authority to launch and operate an on-ground spare satellite will be considered pursuant to the following procedures:

* * * * *

(h) Licensees of Non-Geostationary Satellite Orbit (NGSO) satellite systems need not file separate applications to operate technically identical in-orbit spares authorized as part of a blanket license pursuant to § 25.114(e) or any other satellite blanket licensing provision in this part. However, the licensee shall notify the Commission within 30 days of bringing the in-orbit spare into operation, and certify that operation of this space station did not cause the licensee to exceed the total number of operating space stations authorized by the Commission, and that the licensee will operate the space station within the applicable terms and conditions of its license. These notifications must be filed electronically on FCC Form 312.

8. Section 25.114 is amended by revising paragraph (b) to read as follows:

§ 25.114 Applications for space station authorizations.

* * * * *

(b) Each application for a new or modified space station authorization must constitute a concrete proposal for Commission evaluation. Each application must also contain the formal waiver required by section 304 of the Communications Act, 47 U.S.C. 304. The technical information for a proposed satellite system specified in paragraph (c) of this section must be filed on FCC Form 312, Main Form and Schedule S. The technical information for a proposed satellite system specified in paragraph (d) of this section need not be filed on any prescribed form but should be complete in all pertinent details. Applications for all new space station authorizations must be filed electronically through the International Bureau Filing System (IBFS) in accordance with the applicable provisions of part 1, subpart Y of this chapter.

* * * * *

9. Section 25.115 is amended by revising paragraph (a) to read as follows:

§ 25.115 Application for earth station authorizations.

(a)(1) Transmitting earth stations. Except as provided under § 25.113(b), Commission authorization must be obtained for authority to construct and/or operate a transmitting earth station. Applications shall be filed electronically on FCC Form 312, Main Form and Schedule B, and include the information specified in § 25.130, except as set forth in paragraph (a)(2) of this section.

(2) Applicants for licenses for transmitting earth station facilities are required to file on Form 312EZ, to the extent that form is available, in the following cases:

(i) The earth station will transmit in the 3700-4200 MHz and 5925-6425 MHz band, and/or the 11.7-12.2 GHz and 14.0-14.5 GHz band; and

(ii) The earth station will meet all the applicable technical specifications set forth in part 25 of this chapter.

(3) If Form 312EZ is not available, earth station license applicants specified in paragraph (a)(2) must file on FCC Form 312, Main Form and Schedule B, and include the information specified in § 25.130.

(4) Applications for earth station authorizations must be filed in accordance with the pleading limitations, periods and other applicable provisions of §§ 1.41 through 1.52 of this chapter, except that such earth station applications must be filed electronically through the International Bureau Filing System (IBFS) in accordance with the applicable provisions of part 1, subpart Y of this chapter;

* * * * *

10. Section 25.116 is amended by revising paragraph (e) to read as follows:

§ 25.116 Amendments to applications.

* * * * *

(e) Any amendment to an application shall be filed electronically through the International Bureau Filing System (IBFS) in accordance with the applicable provisions of part 1, subpart Y of this chapter. Amendments to space station applications must be filed on Form 312 and Schedule S. Amendments to space station applications must be filed on Form 312 and Schedule B.

11. Section 25.117 is amended by revising paragraph (c) introductory text to read as follows:

§ 25.117 Modification of station license.

* * * * *

(c) Applications for modification of earth station authorizations shall be submitted on FCC Form 312, Main Form and Schedule B. Applications for modification of space station authorizations shall be submitted on FCC Form 312, Main Form and Schedule S. Both earth station and space station modification applications must be filed electronically through the International Bureau Filing System (IBFS) in accordance with the applicable provisions of part 1, subpart Y of this chapter. In addition, any application for modification of authorization to extend a required date of completion, as set forth in § 25.133 for earth station authorization or § 25.164 for space stations, or included as a condition of any earth station or space station authorization, must include a verified statement from the applicant:

* * * * *

12. Section 25.118 is amended by revising paragraph (a) introductory text, the introductory text of paragraph (e), and adding paragraphs (e)(8) and (e)(9), to read as follows:

§ 25.118 Modifications not requiring prior authorization.

(a) Earth station license modifications, notification required. Authorized earth station operators may make the following modifications to their licenses without prior Commission authorization, provided that the operators notify the Commission, using FCC Form 312 and Schedule B, within 30 days of the modification. This notification must be filed electronically through the International Bureau Filing System (IBFS) in accordance with the applicable provisions of part 1, subpart Y of this chapter:

* * * * *

(e) Space station modifications. A space station operator may modify its license without prior authorization, but upon 30 days prior notice to the Commission and any potentially affected licensed spectrum user, provided that the operator meets the following requirements. This notification must be filed electronically on Form 312 through the International Bureau Filing System (IBFS) in accordance with the applicable provisions of part 1, subpart Y of this chapter:

* * * * *

(8) For DBS licensees, the space station licensee must certify that it will not cause greater interference than that which would occur from the current U.S. assignments in the International Telecommunication Union (ITU) Region 2 BSS Plan and its associated Feeder Link Plan.

(9) For DBS licensees, the space station licensee must certify that it will meet the geographic service requirements in § 25.148(c).

13. Section 25.130 is amended by revising paragraph (a) to read as follows:

§ 25.130 Filing requirements for transmitting earth stations.

(a) Applications for a new or modified transmitting earth station facility shall be submitted on FCC Form 312, Main Form and Schedule B, accompanied by any required exhibits, except for those earth station applications filed on FCC Form 312EZ pursuant to § 25.115(a). All such earth station license applications must be filed electronically through the International Bureau Filing System (IBFS) in accordance with the applicable provisions of part 1, subpart Y of this chapter.

* * * * *

14. Section 25.131 is amended by revising paragraph (a) to read as follows:

§ 25.131 Filing requirements for receive-only earth stations.

(a) Except as provided in paragraphs (b) and (j) of this section, and section 25.115(a), applications for a license for a receive-only earth station shall be submitted on FCC Form 312, Main Form and Schedule B, accompanied by any required exhibits. All such earth station license applications must be filed electronically through the International Bureau Filing System (IBFS) in accordance with the applicable provisions of part 1, subpart Y of this chapter.

* * * * *

15. Section 25.154 is amended by revising paragraph (a)(3), paragraph (c), and paragraph (d), to read as follows:

§ 25.154 Opposition to applications and other pleadings.

(a) * * *

(3) Filed in accordance with the pleading limitations, periods and other applicable provisions of §§ 1.41 through 1.52 of this chapter, except that such petitions must be filed electronically through the International Bureau Filing System (IBFS) in accordance with the applicable provisions of part 1, subpart Y of this chapter;

* * * * *

(c) Oppositions to petitions to deny an application or responses to comments and informal objections regarding an application may be filed within 10 days after the petition, comment, or objection is filed and must be in accordance with other applicable provisions of §§ 1.41 through 1.52 of this chapter, except that such oppositions must be filed electronically through the International Bureau Filing System (IBFS) in accordance with the applicable provisions of part 1, subpart Y of this chapter.

(d) Reply comments by the party that filed the original petition may be filed with respect to pleadings filed pursuant to paragraph (c) of this section within 5 days after the time for filing oppositions has expired unless the Commission otherwise extends the filing deadline and must be in accordance with other applicable provisions of §§ 1.41 through 1.52 of this chapter, except that such reply comments must be filed electronically through the International Bureau Filing System (IBFS) in accordance with the applicable provisions of part 1, subpart Y of this chapter.

[FR Doc. 04-16975 Filed 8-5-04; 8:45 am]

BILLING CODE 6712-01-P